DEPARTMENT OF COMMERCE

International Trade Administration

[A-520-804]

Certain Steel Nails From the United Arab Emirates: Initiation of Antidumping Duty Investigation

AGENCY: Import Administration, International Trade Administration, Department of Commerce.

DATES: Effective Date: April 27, 2011.

FOR FURTHER INFORMATION CONTACT: Dmitry Vladimirov or Minoo Hatten, AD/CVD Operations, Office 5, Import Administration, International Trade Administration, U.S. Department of Commerce, 14th Street and Constitution Avenue, NW., Washington, DC 20230; telephone: (202) 482-0665 or (202) 482-1690, respectively.

SUPPLEMENTARY INFORMATION:

The Petition

On March 31, 2011, the Department of Commerce (the Department) received the petition concerning imports of certain steel nails from the United Arab Emirates (UAE) filed in proper form by Mid Continent Nail Corporation (the petitioner). See Petition for the Imposition of Antidumping Duties: Certain Steel Nails from the United Arab Emirates, dated March 31, 2011 (the Petition). Based on the Department's request concerning certain business proprietary information in the Petition, the petitioner filed additional information on April 4, 2011. On April 6, 2011, the Department issued a request for additional information and clarification of certain areas in the Petition. The petitioner filed a response to the Department's request for information on April 11, 2011 (hereinafter, Supplement to the Petition). The petitioner filed two addenda to the Petition on April 14, 2011, one of which requested a country-wide sales-below-cost investigation (hereinafter, Second Supplement to the Petition).

In accordance with section 732(b) of the Tariff Act of 1930, as amended (the Act), the petitioner alleges that imports of certain steel nails from the UAE are being, or are likely to be, sold in the United States at less than fair value, within the meaning of section 731 of the Act, and that such imports are materially injuring, or threatening material injury to, an industry in the United States.

The Department finds that the petitioner filed the Petition on behalf of the domestic industry because the petitioner is an interested party as defined in section 771(9)(C) of the Act and has demonstrated sufficient industry support with respect to the antidumping duty investigation that the petitioner is requesting that the Department initiate (see “Determination of Industry Support for the Petition” section below).

Period of Investigation

The period of investigation (POI) is January 1, 2010, through December 31, 2010. See 19 CFR 351.204(b)(1).

Scope of Investigation

The products covered by this investigation are certain steel nails from the UAE. For a full description of the scope of the investigation, please see the “Scope of the Investigation” in Appendix I of this notice.¹

¹ The Department is conducting a changed-circumstances review concerning the antidumping duty order on certain steel nails from the People's Republic of China that addresses the exclusion of roofing nails. See Certain Steel Nails from the People's Republic of China: Initiation and Preliminary Results of Antidumping Duty Changed Circumstances Review (signed April 14, 2011).

Comments on Scope of Investigation

We reviewed the scope in the Petition to ensure that it is an accurate reflection of the products for which the domestic industry is seeking relief. Moreover, as discussed in the preamble to the regulations (Antidumping Duties; Countervailing Duties; Final Rule, 62 FR 27296, 27323 (May 19, 1997)), we are setting aside a period for interested parties to raise issues regarding product coverage. The Department encourages all interested parties to submit such comments by May 10, 2011, twenty calendar days from the signature date of this notice. Comments should be addressed to Import Administration's APO/Dockets Unit, Room 1870, U.S. Department of Commerce, 14th Street and Constitution Avenue, NW., Washington, DC 20230. The period of scope consultations is intended to provide the Department with ample opportunity to consider all comments and to consult with parties prior to the issuance of the preliminary determination.

Comments on Product Characteristics for Antidumping Questionnaire

The Department requests comments from interested parties regarding the appropriate physical characteristics of certain steel nails to be reported in response to the Department's antidumping questionnaire. This information will be used to identify the key physical characteristics of the subject merchandise in order to report the relevant costs of production accurately as well as to develop appropriate product-comparison criteria.

Interested parties may provide any information or comments that they feel are relevant to the development of an accurate list of physical characteristics. Specifically, they may provide comments as to which characteristics are appropriate to use as general product characteristics and the product-comparison criteria. We find that it is not always appropriate to use all product characteristics as product-comparison criteria. We base product-comparison criteria on meaningful commercial differences among products. In other words, while there may be some physical product characteristics utilized by manufacturers to describe certain steel nails, it may be that only a select few product characteristics take into account commercially meaningful physical characteristics. In addition, interested parties may comment on the order in which the physical characteristics should be used in matching products. Generally, the Department attempts to list the most important physical characteristics first and the least important characteristics last.

In order to consider the suggestions of interested parties in developing and issuing the antidumping questionnaire, limited to those issues addressed in the comments, we must receive comments at the above address by May 10, 2011. Additionally, rebuttal comments, limited to those issues addressed in the comments, must be received by May 17, 2011.

Determination of Industry Support for the Petition

Section 732(b)(1) of the Act requires that a petition be filed on behalf of the domestic industry. Section 732(c)(4)(A) of the Act provides that a petition meets this requirement if the domestic producers or workers who support the petition account for (i) at least 25 percent of the total production of the domestic like product and (ii) more than 50 percent of the production of the domestic like product produced by that portion of the industry expressing support for, or opposition to, the petition. Moreover, section 732(c)(4)(D) of the Act provides that, if the petition does not establish support of domestic producers or workers accounting for more than 50 percent of the total production of the domestic like product, the Department shall (i) poll the industry or rely on other information in order to determine if there is support for the petition as required by subparagraph (A) or (ii) determine industry support using a statistically valid sampling method to poll the industry.

Section 771(4)(A) of the Act defines the “industry” as the producers as a whole of a domestic like product. Thus, to determine whether a petition has the requisite industry support, the statute directs the Department to look to producers and workers who produce the domestic like product. The International Trade Commission (ITC), which is responsible for determining whether “the domestic industry” has been injured, must also determine what constitutes a domestic like product in order to define the industry. While both the Department and the ITC must apply the same statutory definition regarding the domestic like product (see section 771(10) of the Act), they do so for different purposes and pursuant to a separate and distinct authority. In addition, the Department's determination is subject to limitations of time and information. Although this may result in different definitions of the like product, such differences do not render the decision of either agency contrary to law. See USEC, Inc. v. United States, 132 F. Supp. 2d 1, 8 (CIT 2001), citing Algoma Steel Corp., Ltd. v. United States, 688 F. Supp. 639, 644 (CIT 1988), aff'd 865 F.2d 240 (Fed. Cir. 1989), cert. denied 492 U.S. 919 (1989).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigation. Based on our analysis of the information submitted on the record, we have determined that certain steel nails constitute a single domestic like product and we have analyzed industry support in terms of that domestic like product. For a discussion of the domestic-like-product analysis in this case, see Antidumping Duty Investigation Initiation Checklist: Certain Steel Nails from the United Arab Emirates (Initiation Checklist) at Attachment II, Analysis of Industry Support for the Petition Covering Certain Steel Nails, on file in the Central Records Unit (CRU), Room 7046 of the main Department of Commerce building.

In determining whether the petitioner has standing under section 732(c)(4)(A) of the Act, we considered the industry-support data contained in the Petition with reference to the domestic like product as defined in the “Scope of Investigation” section above. To establish industry support, the petitioner provided its production volume of the domestic like product in 2010 as well as the 2010 production volume of companies that support the Petition. The petitioner compared the total production of itself and supporters of the Petition to the estimated total production of the domestic like product for the entire domestic industry. See Volume I of the Petition at 5 and Exhibits IN-1 and IN-5, and Supplement to the Petition at 4-7. The petitioner estimated 2010 production of the domestic like product by non-petitioning companies based on its knowledge of the certain steel nail production capabilities and their relative proportion of total domestic sales. See Volume I of the Petition at Exhibit IN-5 and Supplement to the Petition at 5-6. We have relied upon data the petitioner provided for purposes of measuring industry support. For further discussion, see Initiation Checklist at Attachment II.

On April 5, 2011, we received an industry support challenge from an importer of certain steel nails from the UAE. The petitioner responded to this submission in its Supplement to the Petition. See Supplement to the Petition at 6 and Initiation Checklist at Attachment II. The Department's review of the data provided in the Petition, supplemental submissions, and other information readily available to the Department indicates that the petitioner has established industry support. First, the Petition established support from domestic producers (or workers) accounting for more than 50 percent of the total production of the domestic like product and, as such, the Department is not required to take further action in order to evaluate industry support (e.g., polling). See section 732(c)(4)(D) of the Act and Initiation Checklist at Attachment II. Second, the domestic producers (or workers) have met the statutory criteria for industry support under section 732(c)(4)(A)(i) of the Act because the domestic producers (or workers) who support the Petition account for at least 25 percent of the total production of the domestic like product. See Initiation Checklist at Attachment II. Finally, the domestic producers (or workers) have met the statutory criteria for industry support under section 732(c)(4)(A)(ii) of the Act because the domestic producers (or workers) who support the Petition account for more than 50 percent of the production of the domestic like product produced by that portion of the industry expressing support for, or opposition to, the Petition. Accordingly, the Department determines that the Petition was filed on behalf of the domestic industry within the meaning of section 732(b)(1) of the Act. See id.

The Department finds that the petitioner filed the Petition on behalf of the domestic industry because it is an interested party as defined in section 771(9)(C) of the Act and it has demonstrated sufficient industry support with respect to the antidumping duty investigation that it is requesting the Department to initiate. See id.

Allegations and Evidence of Material Injury and Causation

The petitioner alleges that the U.S. industry producing the domestic like product is being materially injured, or is threatened with material injury, by reason of the imports of the subject merchandise sold at less than fair value. In addition, the petitioner alleges that subject imports exceed the negligibility threshold provided for under section 771(24)(A) of the Act.

The petitioner contends that the industry's injured condition is illustrated by reduced market share, reduced production, reduced shipments, reduced capacity and capacity utilization, underselling and price depression or suppression, reduced employment, decline in financial performance, lost sales and revenue, and increase in import volume and penetration. See Volume I of the Petition at 14-41, Exhibits IN-1, IN-4-13, and IN-16-20, and Supplement to the Petition at 8. We have assessed the allegations and supporting evidence regarding material injury, threat of material injury, and causation, and we have determined that these allegations are supported by adequate evidence and meet the statutory requirements for initiation. See Initiation Checklist at Attachment III, Analysis of Allegations and Evidence of Material Injury and Causation for the Petition Covering Certain Steel Nails from the United Arab Emirates.

Allegations of Sales at Less Than Fair Value

The following is a description of the allegations of sales at less than fair value upon which the Department based its decision to initiate this investigation of imports of certain steel nails from the UAE. The sources of data for the deductions and adjustments relating to the U.S. prices and cost of production are also discussed in the initiation checklist. See Initiation Checklist.

Export Price

The petitioner based U.S. prices on price quotes from the U.S. distributors/trading companies for sale offers of certain steel nails in the United States produced in and exported from the UAE by Dubai Wire FZE (DWE) and Millennium Steel and Wire (MSW), the two largest UAE producers/exporters of certain steel nails. See Initiation Checklist at 6; see also Volume I of the Petition at 42-46, Exhibit IN-17, and Volume II of the Petition at Exhibits AD-1 and AD-2. The petitioner substantiated the U.S. prices with declarations from persons who obtained and received the information. See Volume II of the Petition at Exhibits AD-1 and Supplement to the Petition at Exhibit Supp. 5. The petitioner asserts that the quoted sale offers are typical of sales of certain steel nails produced in the UAE and sold in the United States. Id. With respect to all price quotes, the petitioner was able to obtain product descriptions, prices per box, and the specific sale, payment, and delivery terms. The petitioner made adjustments for foreign inland freight, foreign port expenses, ocean freight, U.S. port expenses, U.S. harbor maintenance tax and merchandise processing fees, U.S. inland freight, the distributor's markup, and early-payment discount. See Initiation Checklist at 6-8; see also Volume I of the Petition at 46-54, Exhibits AD-1, AD-2, AD-5 through AD-13, and Supplement to the Petition at 8-15, Exhibits Supp. 5-9. See Initiation Checklist for additional details.

Normal Value

DWE

The petitioner provided information that the UAE home market may be viable with respect to DWE. See Initiation Checklist at 9; see also Volume I of the Petition at 55 and Volume II of the Petition at Exhibit AD-6. Through market research, the petitioner obtained a quoted transaction price for certain steel nails produced by DWE and sold or offered for sale to customers in the UAE. Id. The petitioner substantiated the home market price with a declaration from the person who obtained the information. Id. The petitioner asserts that, aside from dimensions, the product subject to the quoted transaction price is substantially identical to subject merchandise sold by DWE in the United States. See Initiation Checklist at 9 and Volume I of the Petition at 56. The petitioner made an adjustment to the starting price for foreign inland freight. See Initiation Checklist at 9 and Volume II of the Petition at Exhibits AD-9 and AD-15. Because the quoted U.S. prices for nails produced and/or exported by DWE were for a product having dimensions different from the dimensions of the product sold or offered for sale as reflected in the quoted UAE transaction, the petitioner made a downward difference-in-merchandise adjustment to normal value pursuant to 19 CFR 351.411. See Initiation Checklist at 9; see also Volume I of the Petition at 68-69, Volume II of the Petition at Exhibits AD-4, AD-24, and AD-25, and Supplement to the Petition at 14-15, Exhibits Supp. 7 and Supp. 10.

The petitioner also made a circumstances-of-sale adjustment to normal value for U.S. credit expenses pursuant to 19 CFR 351.410(c). See Initiation Checklist at 9; see also Volume I of the Petition at 53, Volume II of the Petition at Exhibits AD-2, AD-14, and Supplement to the Petition at 13-14 and Exhibits Supp. 6, Supp. 7, and Supp. 9.

Sales-Below-Cost Allegation

The petitioner provided information demonstrating reasonable grounds to believe or suspect that sales of certain steel nails from the UAE were made at prices below the fully absorbed cost of production (COP), within the meaning of section 773(b) of the Act, and requested that the Department conduct a country-wide sales-below-cost investigation. See Second Supplement to the Petition.² The Statement of Administrative Action (SAA) submitted to the Congress in connection with the interpretation and application of the Uruguay Round Agreements Act states that an allegation of sales below COP need not be specific to individual exporters or producers. See SAA, H.R. Doc. No. 103-316 at 833 (1994). The SAA states, at 833, that “Commerce will consider allegations of below-cost sales in the aggregate for a foreign country, just as Commerce currently considers allegations of sales at less than fair value on a country-wide basis for purposes of initiating an antidumping investigation.”

² In the Second Supplement to the Petition, the petitioner alleged that producers of steel nails in the UAE sold subject merchandise in their home market at less than the COP, consistent with section 773(b) of the Act. In the Second Supplement to the Petition at 5, the petitioner demonstrated that DWE's price was below cost by comparing the home-market price for DWE to constructed value (CV) rather than to COP (according to section 773(e) of the Act constructed value consists of COP plus an amount for profit). We compared the home-market price to the revised COP and found that the price was below the COP. See Initiation Checklist at Attachment V.

Further, the SAA provides that section 773(b)(2)(A) of the Act retains the requirement that the Department must have “reasonable grounds to believe or suspect” that below-cost sales have occurred before initiating such an investigation. Reasonable grounds exist when an interested party provides specific factual information on costs and prices, observed or constructed, indicating that sales in the foreign market in question are at below-cost prices. Id.

Cost of Production

Pursuant to section 773(b)(3) of the Act, the petitioner calculated COP based on costs of manufacturing (COM), selling, general, and administrative expenses (SG&A), and packing expenses. The petitioner did not include an amount for financial expense. See Initiation Checklist at 9-11.

The petitioner calculated raw materials, labor, energy, and packing based on the production experience of a U.S. producer of certain steel nails, adjusted for known differences to manufacture certain steel nails in the UAE using publically available data. See Initiation Checklist for details of the calculation of raw materials, labor, energy, and packing. To calculate the factory overhead and SG&A, the petitioner relied on the cost data from a steel-fabricating company in the UAE. See Initiation Checklist at 9-11. We adjusted the petitioner's calculation of COP in order to avoid the double counting of energy expenses. See Initiation Checklist.

Based upon a comparison of the net price of the foreign like product in the comparison market to the COP calculated for the product, we find reasonable grounds to believe or suspect that sales of the foreign like product in the comparison market were made at prices below the COP within the meaning of section 773(b)(2)(A)(i) of the Act. Accordingly, the Department is initiating a country-wide cost investigation.

Normal Value Based on Constructed Value

Because the petitioner alleged sales below cost, and pursuant to sections 773(a)(4), 773(b) and 773(e) of the Act, we calculated normal value based on CV. We calculated CV using the same average COM, SG&A, financial and packing figures used to compute the COP. We added the average profit rate based on the most recent financial statements of a company in the same general industry in the UAE as the producers of certain steel nails. See Initiation Checklist at 9-11. We also made a circumstance-of-sale adjustment to normal value for U.S. credit expenses pursuant to 19 CFR 351.410(c). See Initiation Checklist at 7-8, 12-13; see Volume I of the Petition at 53 and Volume II of the Petition at Exhibits AD-2, AD-14; see Supplement to the Petition at 13-14 and Exhibits Supp. 6, Supp. 7, and Supp. 9.

MSW

The petitioner asserts that it was unable to obtain home market pricing data for products that were identical or similar to the products MSW offered for sale to the United States. Further, the petitioner provided information indicating that MSW may not have a viable home market or third-country market. See Initiation Checklist at 9; see also Volume I of the Petition at 58 and Volume II of the Petition at AD-6. Because the petitioner has alleged that all sales to countries other than the United States constitute less than the five-percent threshold provided for in section 773(a)(1)(B)(ii)(II) of the Act, the petitioner based normal value on CV for MSW. Id. See Initiation Checklist for additional details.

Normal Value Based on Constructed Value

Pursuant to section 773(e) of the Act, the petitioner calculated CV based on COM, SG&A, packing expenses, and profit using the same methodology as described with respect to DWE. The petitioner also made a circumstance-of-sale adjustment to normal value for U.S. credit expenses pursuant to 19 CFR 351.410(c). See Initiation Checklist at 7-8, 12-13; see also Volume I of the Petition at 53, Volume II of the Petition at Exhibits AD-2, AD-14, and Supplement to the Petition at 13-14 and Exhibits Supp. 6, Supp. 7, and Supp. 9.

Fair Value Comparisons

Based on the data provided by the petitioner, there is reason to believe that imports of certain steel nails are being, or are likely to be, sold in the United States at less than fair value. Based on a comparison of respective net export prices and normal value calculated in accordance with section 773(a)(1) of the Act, the estimated dumping margins for certain steel nails from the UAE range from 61.54 to 81.82 percent for DWE. Based on a comparison of respective net export prices and normal value based on CV calculated in accordance with section 773(a)(4) of the Act, the estimated dumping margins for certain steel nails from the UAE range from 152.37 to 184.41 percent for DWE and from 150.13 to 154.26 percent for MSW. See Initiation Checklist at 14 and Attachments VI and VII.

Initiation of Antidumping Investigation

Based upon the examination of the Petition on certain steel nails from UAE, the Department finds that the Petition meets the requirements of section 732 of the Act. Therefore, we are initiating an antidumping duty investigation to determine whether imports of certain steel nails from UAE are being, or are likely to be, sold in the United States at less than fair value. In accordance with section 733(b)(1)(A) of the Act and 19 CFR 351.205(b)(1), unless postponed, we will make our preliminary determination no later than 140 days after the date of this initiation.

Targeted Dumping Allegations

On December 10, 2008, the Department issued an interim final rule for the purpose of withdrawing 19 CFR 351.414(f) and (g), the regulatory provisions governing the targeted dumping analysis in antidumping duty investigations, and the corresponding regulation governing the deadline for targeted-dumping allegations, 19 CFR 351.301(d)(5). See Withdrawal of the Regulatory Provisions Governing Targeted Dumping in Antidumping Duty Investigations, 73 FR 74930 (December 10, 2008). The Department stated that “{w}ithdrawal will allow the Department to exercise the discretion intended by the statute and, thereby, develop a practice that will allow interested parties to pursue all statutory avenues of relief in this area.” See id. at 74931.

In order to accomplish this objective, if any interested party wishes to make a targeted dumping allegation in this investigation pursuant to section 777A(d)(1)(B) of the Act, such allegations are due no later than 45 days before the scheduled date of the preliminary determination.

Respondent Selection

For this investigation, the Department intends to select respondents based on U.S. Customs and Border Protection (CBP) data for U.S. imports under the Harmonized Tariff Schedule of the United States (HTSUS) numbers 7317.00.55, 7317.00.65, and 7317.00.75, the three HTSUS categories most specific to the subject merchandise, for entries made during the POI. We intend to release the CBP data under Administrative Protective Order (APO) to all parties with access to information protected by APO within five days of publication of this Federal Register notice and make our decision regarding respondent selection within 20 days of publication of this notice. The Department invites comments regarding the CBP data and respondent selection within 10 days of publication of this Federal Register notice.

Interested parties must submit applications for disclosure under APO in accordance with 19 CFR 351.305. Instructions for filing such applications may be found on the Department's website at http://ia.ita.doc.gov/apo.

Distribution of Copies of the Petitions

In accordance with section 732(b)(3)(A) of the Act and 19 CFR 351.202(f), copies of the public versions of the Petition have been provided to the representatives of the Government of the UAE. We will attempt to provide a copy of the public version of the Petition to the foreign producers/exporters, consistent with 19 CFR 351.203(c)(2).

ITC Notification

We have notified the ITC of our initiation, as required by section 732(d) of the Act.

Preliminary Determinations by the ITC

The ITC will preliminarily determine, no later than May 16, 2011, whether there is a reasonable indication that imports of certain steel nails from the UAE are materially injuring, or threatening material injury to a U.S. industry. A negative ITC determination will result in the investigation being terminated; otherwise, this investigation will proceed according to statutory and regulatory time limits.

Notification to Interested Parties

Interested parties must submit applications for disclosure under APO in accordance with 19 CFR 351.305. On January 22, 2008, the Department published Antidumping and Countervailing Duty Proceedings: Documents Submission Procedures; APO Procedures (73 FR 3634). Parties wishing to participate in this investigation should ensure that they meet the requirements of these procedures (e.g., the filing of letters of appearance as discussed at 19 CFR 351.103(d)).

Any party submitting factual information in an antidumping or countervailing duty proceeding must certify to the accuracy and completeness of that information. See section 782(b) of the Act. Parties are hereby reminded that revised certification requirements are in effect for company/government officials as well as their representatives in all segments of any antidumping or countervailing duty proceeding initiated on or after March 14, 2011. See Certification of Factual Information to Import Administration During Antidumping and Countervailing Duty Proceedings: Interim Final Rule, 76 FR 7491 (February 10, 2011) (Interim Final Rule), amending 19 CFR 351.303(g)(1) and (2). The formats for the revised certifications are provided at the end of the Interim Final Rule. The Department intends to reject factual submissions in any proceeding segments initiated on or after March 14, 2011, if the submitting party does not comply with the revised certification requirements.

This notice is issued and published pursuant to section 777(i) of the Act.

Dated: April 20, 2011.
Ronald K. Lorentzen,
Deputy Assistant Secretary for Import Administration.

Appendix I—Scope of the Investigation

The merchandise covered by this investigation includes certain steel nails having a shaft length up to 12 inches. Certain steel nails include, but are not limited to, nails made of round wire and nails that are cut. Certain steel nails may be of one piece construction or constructed of two or more pieces. Certain steel nails may be produced from any type of steel, and have a variety of finishes, heads, shanks, point types, shaft lengths and shaft diameters. Finishes include, but are not limited to, coating in vinyl, zinc (galvanized, whether by electroplating or hot-dipping one or more times), phosphate cement, and paint. Head styles include, but are not limited to, flat, projection, cupped, oval, brad, headless, double, countersunk, and sinker. Shank styles include, but are not limited to, smooth, barbed, screw threaded, ring shank and fluted shank styles. Screw-threaded nails subject to this investigation are driven using direct force and not by turning the fastener using a tool that engages with the head. Point styles include, but are not limited to, diamond, blunt, needle, chisel and no point. Certain steel nails may be sold in bulk, or they may be collated into strips or coils using materials such as plastic, paper, or wire.

Certain steel nails subject to this investigation are currently classified under the Harmonized Tariff Schedule of the United States (HTSUS) subheadings 7317.00.55, 7317.00.65, and 7317.00.75.

Excluded from the scope of this investigation are steel nails specifically enumerated and identified in ASTM Standard F 1667 (2005 revision) as Type I, Style 20 nails, whether collated or in bulk, and whether or not galvanized.

Also excluded from the scope of this investigation are the following products:

• Non-collated (i.e., hand-drive or bulk), two-piece steel nails having plastic or steel washers (“caps”) already assembled to the nail, having a bright or galvanized finish, a ring, fluted or spiral shank, an actual length of 0.500″ to 8″, inclusive; an actual shank diameter of 0.1015″ to 0.166″, inclusive; and an actual washer or cap diameter of 0.900″ to 1.10″, inclusive;

• Non-collated (i.e., hand-drive or bulk), steel nails having a bright or galvanized finish, a smooth, barbed or ringed shank, an actual length of 0.500″ to 4″, inclusive; an actual shank diameter of 0.1015″ to 0.166″, inclusive; and an actual head diameter of 0.3375″ to 0.500″, inclusive, and whose packaging and packaging marking are clearly and prominently labeled “Roofing” or “Roof” nails;

• Wire collated steel nails, in coils, having a galvanized finish, a smooth, barbed or ringed shank, an actual length of 0.500″ to 1.75″, inclusive; an actual shank diameter of 0.116″ to 0.166″, inclusive; and an actual head diameter of 0.3375″ to 0.500″, inclusive, and whose packaging and packaging marking are clearly and prominently labeled “Roofing” or “Roof” nails;

• Non-collated (i.e., hand-drive or bulk), steel nails having a convex head (commonly known as an umbrella head), a smooth or spiral shank, a galvanized finish, an actual length of 1.75″ to 3″, inclusive; an actual shank diameter of 0.131″ to 0.152″, inclusive; and an actual head diameter of 0.450″ to 0.813″, inclusive, and whose packaging and packaging marking are clearly and prominently labeled “Roofing” or “Roof” nails;

• Corrugated nails. A corrugated nail is made of a small strip of corrugated steel with sharp points on one side;

• Thumb tacks, which are currently classified under HTSUS 7317.00.10.00;

• Fasteners suitable for use in powder-actuated hand tools, not threaded and threaded, which are currently classified under HTSUS 7317.00.20 and 7317.00.30;

• Certain steel nails that are equal to or less than 0.0720 inches in shank diameter, round or rectangular in cross section, between 0.375 inches and 2.5 inches in length, and that are collated with adhesive or polyester film tape backed with a heat seal adhesive; and

• Fasteners having a case hardness greater than or equal to 50 HRC, a carbon content greater than or equal to 0.5 percent, a round head, a secondary reduced-diameter raised head section, a centered shank, and a smooth symmetrical point, suitable for use in gas-actuated hand tools.

While the HTSUS subheadings are provided for convenience and customs purposes, the written description of the scope of this investigation is dispositive.

[FR Doc. 2011-10187 Filed 4-26-11; 8:45 am]

BILLING CODE 3510-DS-P